DEPARTMENT OF LABOR

Employment and Training Administration

[TA-W-65,854]

Sypris Technologies, Marion, OH; Notice of Termination of Investigation

Pursuant to Section 221 of the Trade Act of 1974, as amended, an investigation was initiated on April 27, 2009, in response to a petition filed on behalf of workers at Sypris Technologies, Marion, Ohio.

The petitioner has requested that the petition be withdrawn. Consequently, the investigation has been terminated.

Signed at Washington, DC, this 1st day of May 2009.
Elliott S. Kushner,
Certifying Officer, Division of Trade Adjustment Assistance.

[FR Doc. E9-13464 Filed 6-8-09; 8:45 am]

BILLING CODE 4510-FN-P